OFFICE OF PERSONNEL MANAGEMENT

5 CFR Part 532

RIN 3206-AM21

Prevailing Rate Systems; Redefinition of the Chicago, IL; Fort Wayne-Marion, IN; Indianapolis, IN; Cleveland, OH; and Pittsburgh, PA, Appropriated Fund Federal Wage System Wage Areas

AGENCY: U.S. Office of Personnel Management.

ACTION: Proposed rule with request for comments.

SUMMARY: The U.S. Office of Personnel Management is issuing a proposed rule that would redefine the geographic boundaries of the Chicago, IL; Fort Wayne-Marion, IN; Indianapolis, IN; Cleveland, OH; and Pittsburgh, PA, appropriated fund Federal Wage System (FWS) wage areas. The proposed rule would redefine Benton County, IN, from the Chicago wage area to the Indianapolis wage area; Carroll and Howard Counties, IN, from the Fort Wayne-Marion wage area to the Indianapolis wage area; and Carroll County, OH, from the Pittsburgh wage area to the Cleveland wage area. These changes are based on recent consensus recommendations of the Federal Prevailing Rate Advisory Committee to best match the counties proposed for redefinition to a nearby FWS survey area. No other changes are proposed for the Chicago, Fort Wayne-Marion, Indianapolis, Cleveland, and Pittsburgh FWS wage areas.

DATES: We must receive comments on or before August 9, 2010.

ADDRESSES: Send or deliver comments to Jerome D. Mikowicz, Deputy Associate Director for Pay and Leave, Employee Services, U.S. Office of Personnel Management, Room 7H31, 1900 E Street, NW., Washington, DC 20415-8200; email pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the Chicago, IL; Fort Wayne-Marion, IN; Indianapolis, IN; Cleveland, OH; and Pittsburgh, PA, appropriated fund Federal Wage System (FWS) wage areas. This proposed rule would redefine Benton County, IN, from the Chicago wage area to the Indianapolis wage area; Carroll and Howard Counties, IN, from the Fort Wayne-Marion wage area to the Indianapolis wage area; and Carroll County, OH, from the Pittsburgh wage area to the Cleveland wage area.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances (e.g., organizational relationships among closely located Federal activities).

OPM recently completed reviews of the definitions of the Kokomo, IN; Lafayette, IN; and Canton-Massillon, OH MSAs and, based on analyses of the regulatory criteria for defining wage areas, is proposing the changes described below. The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the Chicago, Fort Wayne-Marion, Indianapolis, Cleveland, and Pittsburgh wage areas.

Kokomo, IN Metropolitan Statistical Area

Howard and Tipton Counties, IN, comprise the Kokomo, IN MSA. The Kokomo MSA is currently split between the Fort Wayne-Marion and Indianapolis, IN, wage areas. Howard County is part of the area of application of the Fort Wayne-Marion wage area and Tipton County is part of the area of application of the Indianapolis wage area.

Based on an analysis of the regulatory criteria for Howard County, the core county in the Kokomo MSA, we recommend that the entire Kokomo MSA be defined to the Indianapolis area of application. The distance criterion for Howard County favors the Indianapolis wage area more than the Fort Wayne-Marion wage area. The commuting patterns criterion slightly favors the Indianapolis wage area. All other criteria are inconclusive. Based on this analysis, OPM proposes to redefine Howard County to the Indianapolis area of application so that the entire Kokomo MSA is in one wage area. There are currently no FWS employees working in Howard County.

Lafayette, IN Metropolitan Statistical Area

Benton, Carroll, and Tippecanoe Counties, IN, comprise the Lafayette, IN MSA. The Lafayette MSA is currently split between the Chicago, IL; Fort Wayne-Marion, IN; and Indianapolis, IN, wage areas. Benton County is part of the area of application of the Chicago wage area, Carroll County is part of the area of application of the Fort Wayne-Marion wage area, and Tippecanoe County is part of the area of application of the Indianapolis wage area.

Based on an analysis of the regulatory criteria for Tippecanoe County, the location of the main population center in the Lafayette MSA, we recommend that the entire Lafayette MSA be defined to the Indianapolis area of application. The distance criterion for Tippecanoe County favors the Indianapolis wage area more than the Chicago or Fort Wayne-Marion wage areas. All other criteria are inconclusive. However, more than twice as many people currently commute from Tippecanoe County into the Indianapolis survey area (2%) than into the Chicago survey area (0.11%) or the Fort Wayne-Marion survey area (0.14%). Based on this analysis, we believe Tippecanoe County is appropriately defined to the Indianapolis wage area. Since there appear to be no unusual circumstances that would permit splitting the Lafayette MSA, OPM proposes to redefine Benton and Carroll Counties to the Indianapolis wage area so that the entire Lafayette MSA is in one wage area. There are currently no FWS employees working in Benton or Carroll Counties.

Canton-Massillon, OH Metropolitan Statistical Area

Carroll and Stark Counties, OH, comprise the Canton-Massillon, OH MSA. The Canton-Massillon MSA is currently split between the Cleveland, OH, and Pittsburgh, PA, wage areas. Carroll County is part of the area of application of the Pittsburgh wage area and Stark County is part of the area of application of the Cleveland wage area.

Based on an analysis of the regulatory criteria for Stark County, the core county in the Canton-Massillon MSA, we recommend that the entire Canton-Massillon MSA be defined to the Cleveland wage area. The distance criterion for Stark County favors the Cleveland wage area more than the Pittsburgh wage area. All other criteria are inconclusive. However, more than twice as many people currently commute from Stark County into the Cleveland survey area (2%) than into the Pittsburgh survey area (0.07%). Based on this analysis, we believe Stark County is appropriately defined to the Cleveland wage area. Since there appear to be no unusual circumstances that would permit splitting the Canton-Massillon MSA, OPM proposes to redefine Carroll County to the Cleveland wage area. There are two Army Corps of Engineers FWS employees currently working in Carroll County.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.

John Berry,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Chicago, IL; Fort Wayne-Marion, IN; Indianapolis, IN; Cleveland, OH; and Pittsburgh, PA, wage areas to read as follows:

Appendix C to Subpart B of Part 532—Appropriated Fund Wage and Survey Areas

| * * * * *
ILLINOIS
| * * * * *
Chicago
Survey Area
Illinois:
Cook
Du Page
Kane
Lake
McHenry
Will
Area of Application. Survey area plus:
Illinois:
Boone
De Kalb
Grundy
Iroquois
Kankakee
Kendall
La Salle
Lee
Livingston
Ogle
Stephenson
Winnebago
Indiana:
Jasper
Lake
La Porte
Newton
Porter
Pulaski
Starke
Wisconsin:
Kenosha
| * * * * *
INDIANA
| * * * * *
Fort Wayne-Marion
Survey Area
Indiana:
Adams
Allen
DeKalb
Grant
Huntington
Wells
Area of Application. Survey area plus:
Indiana:
Blackford
Cass
Elkhart
Fulton
Jay
Kosciusko
LaGrange
Marshall
Miami
Noble
St. Joseph
Steuben
Wabash
White
Whitley
Ohio:
Allen
Defiance
Fulton
Henry
Mercer
Paulding
Putnam
Van Wert
Williams
INDIANAPOLIS
Survey Area
Indiana:
Boone
Hamilton
Hancock
Hendricks
Johnson
Marion
Morgan
Shelby
Area of Application. Survey area plus:
Indiana:
Bartholomew
Benton
Brown
Carroll
Clay
Clinton
Decatur
Delaware
Fayette
Fountain
Henry
Howard
Madison
Montgomery
Parke
Putnam
Rush
Sullivan
Tippecanoe
Tipton
Vermillion
Vigo
Warren
| * * * * *
OHIO
| * * * * *
Cleveland
Survey Area
Ohio:
Cuyahoga
Geauga
Lake
Medina
Area of Application. Survey area plus:
Ohio:
Ashland
Ashtabula
Carroll
Columbiana
Erie
Huron
Lorain
Mahoning
Ottawa
Portage
Sandusky
Seneca
Stark
Summit
Trumbull
Wayne
| * * * * *
PENNSYLVANIA
| * * * * *
Pittsburgh
Survey Area
Pennsylvania:
Allegheny
Beaver
Butler
Washington
Westmoreland
Area of Application. Survey area plus:
Pennsylvania:
Armstrong
Bedford
Blair
Cambria
Cameron
Centre
Clarion
Clearfield
Clinton
Crawford
Elk (Does not include the Allegheny National Forest portion)
Erie
Fayette
Forest (Does not include the Allegheny National Forest portion)
Greene
Huntingdon
Indiana
Jefferson
Lawrence
Mercer
Potter
Somerset
Venango
Ohio:
Belmont
Harrison
Jefferson
Tuscarawas
West Virginia:
Brooke
Hancock
Marshall
Ohio
| * * * * *

[FR Doc. 2010-16780 Filed 7-8-10; 8:45 am]

BILLING CODE 6325-39-P